NUCLEAR REGULATORY COMMISSION

Twenty-Ninth Nuclear Safety Research Conference

AGENCY: Nuclear Regulatory Commission.

ACTION: Notice of meeting.

SUMMARY: The Twenty-Ninth Nuclear Safety Research Conference (NSRC), formerly known as the Water Reactor Safety Meeting, will be held October 22-24, 2001, from 8 a.m. to 5 p.m. at the Marriott Hotel at Metro Center, 775 12th Street, NW., Washington, DC.

Please note that while the name of the conference has changed to more accurately reflect the broad range of topics that we now cover, the objective is still to promote dialogue with stakeholders about research that develops and confirms technical bases for regulatory decisions and prepares the Agency for the future.

Ashok C. Thadani, Director of the Office of Nuclear Regulatory Research, will open the conference on Monday, October 22, 2001, and NRC Chairman Richard Meserve will be the keynote speaker. Roy Zimmerman, Deputy Director of the Office of Nuclear Regulatory Research, will follow Chairman Meserve by discussing recent accomplishments in the Office of Nuclear Regulatory Research.

An expert panel will provide an overview of safety research programs worldwide. Panel members will include Dr. Michel Livolant, Institute de Protection et de Surete Nucleaire of France; Dr. William Magwood, U.S. Department of Energy; Dr. Theodore Marston, Electric Power Research Institute; Dr. Kunihisa Soda, Japan Atomic Energy Research Institute; and Dr. Ashok Thadani, NRC.

NRC Commissioner Greta J. Dicus will be a guest speaker at the Monday morning plenary session.

Technical sessions on advanced reactors and dry cask research will be held in the afternoon.

On Tuesday, October 23, 2001, two expert panel sessions are planned in the morning. The first expert panel on waste and decommissioning will start at 8 a.m. and will discuss current research initiatives for addressing issues in human and environmental health risk assessment. Panel members will include NRC Commissioner Edward McGaffigan, Jr; Mr. Andrew Wallo, U.S. Department of Energy; Mr. Michael Boyd, U.S. Environmental Protection Agency; Mr. Thomas Cardwell, Texas Department of Health; and Mr. Luc Baekelandt, Federal Agency for Nuclear Control in Belgium.

The other expert panel will be on advanced reactors and will provide an overview of ongoing programs and a discussion of the safety attributes of advanced designs, key issues in licensing and development, research needs and priorities, and the outlook for the future. Panel members will include NRC Commissioner Jeffrey S. Merrifield; Dr. Ron Simard, Nuclear Energy Institute; Dr. Theodore Marston, Electric Power Research Institute; Dr. William Magwood, U.S. Department of Energy; Dr. Vladimir Asmolov, Kurchatov Institute of Russia; Mr. Peter Lyons, U.S. Senate Staff (Senator Peter Domenici); and Mr. Edward Lyman, Nuclear Control Institute.

Technical sessions on fuels research and age-related issues and research will be held in the afternoon.

On Wednesday, October 24, 2001, NRC Commissioner Nils J. Diaz will provide brief remarks at 8 a.m. and will be followed by two expert panels and two technical sessions are planned. The first panel will start at 8:15 a.m. and will explore and seek innovative ways to communicate the role, scope, and content of the Office of Nuclear Regulatory Research program. Panelists include Mr. Dwight Cates, Committee on Energy and Commerce, U.S. House of Representatives; Ms. Maureen Conley of Inside N.R.C.; Ms. Angie Howard, Nuclear Energy Institute; Professor Andrew Kadak, Massachusetts Institute of Technology; Mr. David Lochbaum, Union of Concerned Scientists; Dr. Timo Okkonen, STUK—Radiation and Nuclear Safety Authority; Ms. Margaret Federline, USNRC; and Ms. Patricia Norry, Deputy Executive Director for Management Services, USNRC.

The second expert panel will be on fuels. It will look at issues to be addressed in an NRC safety research program and discuss whether the current spectrum of research projects are adequate.

Technical sessions on fuels and risk-informing regulatory practices will be held for the remainder of the day.

This international conference includes presentations by personnel from the U.S. Government, national laboratories, private contractors, universities, reactor vendors, and a number of foreign organizations.

Those who wish to attend are encouraged to register in advance on the NSRC website (www.bnl.gov/NSRC) or by contacting Susan Monteleone, Brookhaven National Laboratory, Department of Nuclear Energy, Building 130, Upton, NY 11973, telephone (631) 344-7235; or Sandra Nesmith (301) 415-6437, Office of Nuclear Regulatory Research, U.S. Nuclear Regulatory Commission, Washington, DC 20555.

Dated at Rockville, Maryland, this 2nd day of October 2001.
For the Nuclear Regulatory Commission.
Mabel F. Lee,
Director, Program Management, Policy Development& Analysis Staff, Office of Nuclear Regulatory Research.

[FR Doc. 01-26107 Filed 10-16-01; 8:45 am]

BILLING CODE 7590-01-P